DEPARTMENT OF JUSTICE

Notice of Lodging of Consent Decree Under the Comprehensive Environmental Response, Compensation, and Liability Act

Notice is hereby given that on October 13, 2006, a proposed Consent Decree with Martin Marietta Materials, Inc. Jane C. Sullivan and Hilda C. Dill in United States v. Martin Marietta Materials, Inc. et al., No. 7:06-cv-00154-FL, was lodged with the United States District Court for the Eastern District of North Carolina. In this action, brought pursuant to Sections 106(a) and 107 of the Comprehensive Environmental Response, Compensation, and Liability Act (“CERCLA”), 42 U.S.C. 9606(a) and 9607, the United States seeks injunctive relief to remedy conditions in connection with the release or threatened release of hazardous substances into the environment at the Reasor Chemical Company Site (“Site”) in Castle Hayne, New Hanover County, North Carolina. The United States also seeks to recover unreimbursed costs incurred, and to be incurred, for response activities at the Site, Under the proposed Consent Decree, defendants agree to undertake remedial work at the Site, to reimburse $650,000 of the United States' past response costs, and to pay future costs.

The Department of Justice will receive for a period of thrity (30) days from the date of this publication comments relating to the Consent Decree. Comments should be addressed to the Assistant Attorney General, Environmental and Natural Resources Division, P.O. Box 7611, U.S. Department of Justice, Washington, DC 20044-7611, and should refer to United States v. Martin Marietta Materials, Inc., et al., (E.D.N.C.) DJ Ref #90-11-3-08268.

The Consent Decree may be examined at the office of the United States Attorney, Eastern District of North Carolina, 310 New Bern Avenue, Suite 800, Raleigh, North Carolina. During the public comment period, the Consent Decree may also be examined on the following Department of Justice Web site, http://www.usdoj.gov/enrd/Consent_Decrees.html A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States v. Martin Marietta Materials, Inc., et al., (E.D.N.C.), DJ Ref #90-11-3-08268, and enclose a check in the amount of $12 (excluding exhibits) or $66 (including exhibits) (25 cents per page reproduction cost) payable to the U.S. Treasury or, if by e-mail or fax, forward a check in that amount to the Consent Decree Library at the stated address.

Henry S. Friedman,
Assistant Section Chief, Environmental Enforcement Section, Environment and Natural Resources Division.

[FR Doc. 06-8886 Filed 10-24-06; 8:45 am]

BILLING CODE 4410-15-M